ENVIRONMENTAL PROTECTION AGENCY

[EPA-HQ-OECA-2012-0662; FRL-9998-10-OMS]

Information Collection Request Submitted to OMB for Review and Approval; Comment Request; NESHAP for Gasoline Distribution Facilities (Renewal)

AGENCY: Environmental Protection Agency (EPA).

ACTION: Notice.

SUMMARY: The Environmental Protection Agency has submitted an information collection request (ICR), “NESHAP for Gasoline Distribution Facilities (40 CFR part 63, subpart R) (Renewal)” (EPA ICR No. 1659.10, OMB Control No. 2060-0325), to the Office of Management and Budget (OMB) for review and approval in accordance with the Paperwork Reduction Act (44 U.S.C. 3501 et seq.). This is a proposed extension of the ICR, which is currently approved through November 30, 2019. Public comments were previously requested, via the Federal Register, on May 6, 2019 during a 60-day comment period. This notice allows for an additional 30 days for public comments. A fuller description of the ICR is given below, including its estimated burden and cost to the public. An Agency may neither conduct nor sponsor, and a person is not required to respond to, a collection of information unless it displays a currently valid OMB control number.

DATES: Additional comments on the information collection published May 6, 2016 at 84 FR 19777 may be submitted on or before October 28, 2019.

ADDRESSES: Submit your comments, referencing Docket ID Number EPA-HQ-OECA-2012-0662, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Gasoline Distribution Facilities (40 CFR part 63, subpart R) apply to existing and new: (1) Bulk gasoline terminals with throughputs greater than 75,700 liters/day; and (2) pipeline breakout stations. New facilities include those that commenced construction or reconstruction after the date of proposal.

Owners and operators of affected facilities are required to comply with reporting and/or recordkeeping requirements for the NESHAP General Provisions (40 CFR part 63, subpart A), as well as for the specific requirements at 40 CFR part 63, subpart R. This includes submitting initial notification reports, performance tests and periodic reports and results, maintaining records of the occurrence and duration of any startup, shutdown or malfunction in the operation of an affected facility or any period during which the monitoring system is inoperative, and submitting annual reports certifying area source status if an area source is within 50 percent of major source threshold criteria. These reports are used by EPA to determine compliance with the standards.

Form Numbers: None.

Respondents/affected entities: Owners or operators of gasoline distribution facilities.

Respondent's obligation to respond: Mandatory (40 CFR part 63, subpart R.).

Estimated number of respondents: 102 major source and 390 area sources (492 total).

Frequency of response: Annually, semiannually.

Total estimated burden: 15,900 hours (per year). Burden is defined at 5 CFR 1320.3(b).

Total estimated cost: $2,160,000 (per year), which includes $305,000 in annualized capital/startup and/or operation & maintenance costs.

Changes in the Estimates: There is no change in burden hours in this ICR compared to the previous ICR. The regulations have not changed over the past three years and are not anticipated to change over the next three years. The growth rate for the industry is very low, negative or non-existent. The decrease in costs is due to an adjustment in the number of respondents with O&M costs. A re-examination of the rule and background documents indicates that the monitoring requirements and associated O&M costs apply only to the 87 major source bulk gasoline terminals.

Courtney Kerwin,
Director, Regulatory Support Division.

[FR Doc. 2019-20945 Filed 9-25-19; 8:45 am]

BILLING CODE 6560-50-P